DEPARTMENT OF COMMERCE

Bureau of Industry and Security

15 CFR Part 744

[Docket No. 230608-0146]

RIN 0694-AJ24

Additions of Entities to the Entity List and Removal of Entity From the Entity List

AGENCY: Bureau of Industry and Security, Department of Commerce.

ACTION: Final rule.

SUMMARY: The Department of Commerce is amending the Export Administration Regulations (EAR) by adding 43 entities under 50 entries to the Entity List. These entities have been determined by the U.S. Government to be acting contrary to the national security or foreign policy interests of the United States. These entries are listed on the Entity List under the destinations of China (31), Kenya (1), Laos (1), Malaysia (1), Pakistan (4), Singapore (1), South Africa (3), Thailand (1), the United Arab Emirates (5), and the United Kingdom (2). This rule also removes one entity from the Entity List under the destination of Latvia.

DATES: This rule is effective June 12, 2023.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Additions to the Entity List

The ERC determined to add the following entities to the Entity List: Under the destination of China, Aviation Industry Corporation of China International Simulation Technology Service Co., Ltd.; Beijing China Aviation Technology Co., Ltd.; Chengdu Poyotencon Technology; China Taly Aviation Technologies Corporation; Chinese Flight Test Establishment; and Enhance International Trade Limited; under the destinations of China, Kenya, Laos, and the United Arab Emirates, Frontier Services Group Limited; under the destinations of China and South Africa, the Test Flying Academy of South Africa; under the destinations of Malaysia, Singapore, Thailand, and the United Kingdom, International Aerospace Asia; under the destination of South Africa, AVIC International Flight Training Academy; and Pearl Coral 1173CC; under the destination of the United Arab Emirates, TFASA Group FZCO; TFASA Group Training; TFASA Services FZCO; and TFASA Training Limited; and under the destination of the United Kingdom, TFASA Group Limited. These entities are added for providing training to Chinese military pilots using Western and NATO sources. This activity is contrary to U.S. national security and foreign policy interests under § 744.11 of the EAR. Licenses are required for all items subject to the EAR. License applications will be reviewed under a presumption of denial.

The ERC determined to add Aviation Industry Corporation of China 612 Institute; Beijing Iwintall Technology Co. Ltd.; Beijing Transemic Technology Co., Ltd.; Beijing Transemic Information Technology Co., Ltd.; China Aviation Development Harbin Bearing Co., Ltd.; Luoyang Institute of Science and Technology, Opturn Co., Ltd.; and Pera Global to the Entity List for acquiring and attempting to acquire U.S.-origin items in support of China's military modernization. This activity is contrary to U.S. national security and foreign policy interests under § 744.11 of the EAR. These entities have demonstrable ties to activities of concern, including hypersonic weapons development, design and manufacture of air-to-air missiles, hypersonic flight modeling, and weapon lifecycle management using Western software. Licenses are required for all items subject the EAR. License applications will be reviewed under a presumption of denial.

Pursuant to § 744.11 of the EAR, the ERC determined to add Belt Consulting Co., Ltd.; New Faith Enterprise Investment Limited; Shanghai Breeze Technology Co., Ltd.; Shanghai Breeze Technology Jiangsu Co, Ltd.; Shanghai Shark Sprite Technology Co., Ltd.; and United Vision Limited, all under the destination of China, to the Entity List. This addition is based on their engaging in or enabling activities contrary to U.S. national security and foreign policy interests. Specifically, these entities have been implicated in a conspiracy to violate U.S. export laws and regulations, including a scheme to supply the Chinese People's Liberation Army—Navy with U.S. military grade vessels and equipment. This activity is contrary to U.S. national security and foreign policy interests under § 744.11 of the EAR. Licenses are required for all items subject the EAR. License applications will be reviewed under a presumption of denial.

The ERC determined to add Shanghai Supercomputing Technology Co., Ltd. to the Entity List for acquiring and attempting to acquire U.S.-origin items in support of China's military modernization. This entity has supported the operation of supercomputers located in the PRC, specifically by offering cloud-based supercomputing capabilities to support hypersonics research. This activity is contrary to U.S. national security and foreign policy interests under § 744.11 of the EAR. Licenses are required for all items subject to the EAR, which will be reviewed under a presumption of denial. This entity is also given a footnote 4 designation, which means that “items subject to the EAR” for the purpose of these license requirements include foreign-produced items that are subject to the EAR pursuant to § 734.9(e)(2) of the EAR.

The ERC determined to add Beijing Ryan Wende Science and Technology Co., Ltd. (Beijing Ryan) and Xinjiang Kehua Hechang Biological Science and Technology Co., Ltd. (Xinjiang Kehua) to the Entity List, all under the destination of China, for procuring and supplying items subject to the EAR that enable the Chinese government to carry out human rights abuses against individuals in China. Specifically, Beijing Ryan procures and distributes items subject to the EAR, including mobile phone inspection software, fingerprint analysis technology, biostatistics software, and DNA testing items to Public Security Bureaus (PSBs) throughout China. Xinjiang Kehua procures and distributes biotechnology items subject to the EAR to the Xinjiang Production and Construction Corps (XPCC), an entity designated on the Entity List and on the Office of Foreign Assets Control's List of Specially Designated Nationals and Blocked Persons, and to PSBs in Xinjiang. The distribution of these items to XPCC and the PSBs enables China to carry out human rights abuses against individuals in China, including as part of its campaign of repression against Uyghur Muslims and members of other minority groups in Xinjiang. This activity is contrary to U.S. national security and foreign policy interests under § 744.11 of the EAR. Licenses are required for all items subject the EAR. License applications will be reviewed under a presumption of denial.

The ERC determined to add Akhtar and Sons Private Limited to the Entity List under the destination of Pakistan. This addition is based on its contributions to Pakistan's ballistic missile program. A license is required for all items subject to the EAR. License applications will be reviewed under the policy set out in § 744.3(d).

The ERC determined to add Affiliates International, under the destination of Pakistan, and Changzhou Utek Composite Co., Ltd., under the destination of China, to the Entity List. This addition is based on their contributions to Pakistan's ballistic missile program. A license is required for all items subject to the EAR. License applications will be reviewed under the policy set out in § 744.3(d).

The ERC determined to add Beijing Luo Luo Technology Development Co., Ltd.; General Technology Limited; Tiger Force Electronics Limited; and Universal Enterprise Limited to the Entity List, all under the destination of China. This addition is based on their contributions to Pakistan's ballistic missile program. A license is required for all items subject to the EAR. License applications will be reviewed under the policy set out in §§ 744.2(d) and 744.3(d).

The ERC determined to add Qianpu Technology Co., Ltd., under the destination of China, and Quantum Logix (Private) Limited and Imminent Engineering Co., Ltd., both under the destination of Pakistan, to the Entity List. This addition is based on information that these entities significantly contribute to Pakistan's advanced conventional weapons and strategic weapons capabilities, contrary to U.S. national security and foreign policy interests under § 744.11 of the EAR. Licenses are required for all items subject the EAR. License applications will be reviewed under a presumption of denial.

For the reasons described above, this final rule adds the following 43 entities under 50 entries to the Entity List and includes, where appropriate, aliases:

China

• Aviation Industry Corporation of China 612 Institute,

• Aviation International Corporation of China International Simulation Technology Service Co., Ltd.,

• Beijing China Aviation Technology Co., Ltd.,

• Beijing Iwintall Technology Co. Ltd.,

• Beijing Luo Luo Technology Development Co., Ltd.,

• Beijing Ryan Wende Science and Technology Co., Ltd.,

• Beijing Transemic Information Technology Ltd.,

• Beijing Transemic Technology Ltd.,

• Belt Consulting Co., Ltd.,

• Changzhou Utek Composite Co., Ltd.,

• Chengdu Poyotencon Technology,

• China Taly Aviation Technologies Corporation,

• Chinese Flight Test Establishment,

• Enhance International Trade Limited,

• Frontier Services Group Limited,

• General Technology Limited,

• Luoyang Institute of Science and Technology,

• New Faith Enterprise Investment Limited,

• Opturn Co., Ltd.,

• Pera Global

• Qianpu Technology Co., Ltd.,

• Shanghai Aerospace Science and Technology Development Co., Ltd.

• Shanghai Breeze Technology Co., Ltd.,

• Shanghai Breeze Technology Jiangsu Co., Ltd.,

• Shanghai Shark Sprite Technology Co., Ltd.,

• Shanghai Supercomputing Technology Co., Ltd.,

• The Test Flying Academy of South Africa,

• Tiger Force Electronics Limited,

• United Vision Limited,

• Universal Enterprise Limited, and

• Xinjiang Kehua Hechang Biological Science and Technology Co., Ltd.

Kenya

• Frontier Services Group Limited.

Laos

• Frontier Services Group Limited.

Malaysia

• International Aerospace Asia.

Pakistan

• Affiliates International,

• Akhtar and Sons Private Limited,

• Imminent Engineering Co., Ltd., and

• Quantum Logix (Private) Limited.

Singapore

• International Aerospace Asia.

South Africa

• AVIC International Flight Training Academy,

• Pearl Coral 1173 CC, and

• The Test Flying Academy of South Africa.

Thailand

• International Aerospace Asia.

United Arab Emirates

• Frontier Services Group Limited,

• TFASA Group FZCO,

• TFASA Group Training,

• TFASA Services FZCO, and

• TFASA Training Limited.

United Kingdom

• International Aerospace Asia, and

• TFASA Group Limited.

Removal From the Entity List

The ERC determined to remove Fiber Optic Solutions from the Entity List. This is based on information that BIS received pursuant to § 744.16(e) of the EAR and the review that the ERC conducted in accordance with procedures described in supplement no. 5 to part 744 of the EAR. Prior to removal from the Entity List by this rule, Fiber Optic Solutions was listed under Latvia.

Savings Clause

For the changes being made in this final rule, shipments of items removed from eligibility for a License Exception or export, reexport, or transfer (in-country) without a license (NLR) as a result of this regulatory action that were en route aboard a carrier to a port of export, reexport, or transfer (in-country), on June 12, 2023, pursuant to actual orders for export, reexport, or transfer (in-country) to or within a foreign destination, may proceed to that destination under the previous eligibility for a License Exception or export, reexport, or transfer (in-country) without a license (NLR) before July 12, 2023. Any such items not actually exported, reexported, or transferred (in-country) before midnight, on July 12, 2023, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classifications, and carries a burden estimate of 29.4 minutes for a manual or electronic submission for a total burden estimate of 33,133 hours. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. The authority citation for 15 CFR part 744 is continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2022, 87 FR 57569 (September 21, 2022); Notice of November 8, 2022, 87 FR 68015 (November 10, 2022).

2. Supplement No. 4 to part 744 is amended:

a. Under CHINA, PEOPLE'S REPUBLIC OF, by adding, in alphabetical order, entries for “Aviation Industry Corporation of China 612 Institute;” “Aviation International Corporation of China International Simulation Technology Service Co., Ltd.;” “Beijing China Aviation Technology Co., Ltd.;” “Beijing Iwintall Technology Co. Ltd.;” “Beijing Luo Luo Technology Development Co., Limited;” “Beijing Ryan Wende Science and Technology Co., Ltd.;” “Beijing Transemic Information Technology Ltd.;” “Beijing Transemic Technology Ltd.;” “Belt Consulting Co., Limited;” “Changzhou Utek Composite Co., Limited;” “Chengdu Poyotencon Technology;” “China Taly Aviation Technologies Corporation;” “Chinese Flight Test Establishment;” “Enhance International Trade Limited;” “Frontier Services Group Limited;” “General Technology Limited;” “Luoyang Institute of Science and Technology;” “New Faith Enterprise Investment Limited;” “Opturn Co., Ltd.;” “Pera Global;” “Qianpu Technology Co., Ltd.;” “Shanghai Aerospace Science and Technology Development Co., Ltd.;” “Shanghai Breeze Technology Co., Ltd.;” “Shanghai Breeze Technology Jiangsu Co., Ltd.;” “Shanghai Shark Sprite Technology Co., Ltd.;” “Shanghai Supercomputing Technology Co., Ltd.;” “The Test Flying Academy of South Africa;” “Tiger Force Electronics Limited;” “United Vision Limited;” “Universal Enterprise Limited;” and “Xinjiang Kehua Hechang Biological Science and Technology Co., Ltd.;”

b. By adding in alphabetical order a heading for KENYA and under KENYA, by adding, in alphabetical order, an entry for “Frontier Services Group Limited;”

c. Under LATVIA, by removing the entry for “Fiber Optic Solutions;”

d. By adding in alphabetical order a heading for LAOS and under LAOS, by adding, in alphabetical order, an entry for “Frontier Services Group Limited;”

e. Under MALAYSIA, by adding, in alphabetical order, an entry for “International Aerospace Asia;”

f. Under PAKISTAN, by adding in alphabetical order, entries for “Affiliates International;” “Akhtar and Sons Private Limited;” “Imminent Engineering Co., Ltd.;” and “Quantum Logix (Private) Limited”; and

g. Under SINGAPORE, by adding, in alphabetical order, an entry for “International Aerospace Asia;”

h. Under SOUTH AFRICA, by adding, in alphabetical order, entries for “AVIC International Flight Training Academy;” “Pearl Coral 1173 CC;” and “The Test Flying Academy of South Africa;”

i. Under THAILAND, by adding, in alphabetical order, an entry for “International Aerospace Asia;”

j. Under UNITED ARAB EMIRATES, by adding, in alphabetical order, entries for “Frontier Services Group Limited;” “TFASA Group FZCO;” “TFASA Group Training;” “TFASA Services FZCO;” and “TFASA Training Limited;” and

k. Under United Kingdom, by adding, in alphabetical order, entries for “International Aerospace Asia;” and “TFASA Group Limited.”

The additions read as follows:

Supplement No. 4 to Part 744—Entity List

* * * * *

Country | Entity | License requirement | License review policy | Federal Register citation
* * * * * * *
CHINA, PEOPLE'S REPUBLIC OF | * * * * * *
| Aviation Industry Corporation of China 612 Institute, a.k.a. the following three aliases: —Base 014; —China Air-to-Air Missile Research Institute; and —China Airborne Missile Academy. No. 166 Jiefang Road, Xigong District, Luoyang City, Henan Province, China. | For all items subject to the EAR. (See § 744.11 of the EAR). | Presumption of denial | 88 FR [INSERT FR PAGE NUMBER] June 14, 2023.
| Aviation International Corporation of China International Simulation Technology Service Co., Ltd., a.k.a. the following one alias: —AVIC International Simulation Technology and Service Co., Ltd. | For all items subject to the EAR (See § 744.11 of the EAR). | Presumption of denial | 88 FR [INSERT FR PAGE NUMBER] June 14, 2023.
| 1001, Building 2, No. 510, Gutai Road, Baoshan District, Shanghai, China; and 5th Floor, Hangfei Building, No. 333, Longteng Road, Songjiang District, Shanghai, China; and Gate 3, No. 3-2, Linxing Street, Nangang District, Harbin, China.
| * * * * * *
| Beijing China Aviation Technology Co., Ltd., a.k.a. the following four aliases: —BCAT Aviation; —B-CAT; —BCAT; and —Beijing Zhongxun Technology Co., Ltd. | For all items subject to the EAR (See § 744.11 of the EAR). | Presumption of denial | 88 FR [INSERT FR PAGE NUMBER] June 14, 2023.
| No. 18, Kaixuan Street, Liangxiang District, Fangshan District, Beijing-D3768, China; and No. 18, Cailida Road, Liang Tang Street, Liangxiang District, Fangshan District, Beijing, China; and Beijing Yizhuang Economic and Technological Development Zone No. 29 Council of Hai Second Road Zhongxing Science and Technology Park, China.
| * * * * * *
| Beijing Iwintall Technology Co. Ltd., a.k.a. the following one alias: —Beijing Yiweixun Tongchuang Technology Co., Ltd. | For all items subject to the EAR. (See § 744.11 of the EAR). | Presumption of denial | 88 FR [INSERT FR PAGE NUMBER] June 14, 2023.
| Building CN08, No. 1 Balizhuang Dongli, Chaoyang District, Beijing, China; and Building 6A, No. 3 Yanjing Middle Street, Chaoyang District, Beijing, China; and Room 2108, Floor 21, Building 6A, No. 3 Yanjingli Middle Street, Chaoyang District, Beijing, China.
| * * * * * *
| Beijing Luo Luo Technology Development Co., Limited, Room 903, Building 1, No. 4 Wangjing Road, Chaoyang District, Beijing, China. | For all items subject to the EAR. (See § 744.11 of the EAR). | See §§ 744.2(d) and 744.3(d) of this part | 88 FR [INSERT FR PAGE NUMBER] June 14, 2023.
| * * * * * *
| Beijing Ryan Wende Science and Technology Co., Ltd., a.k.a. the following one alias: —Beijing Reiyuan Wende Science and Technology Company Limited. | For all items subject to the EAR. (See § 744.11 of the EAR). | Presumption of denial | 88 FR [INSERT FR PAGE NUMBER] June 14, 2023.
| Room 1001, 10th Floor, Building 2 (Longsheng Building B), No. 5, Rongchang East Street, Economic and Technological Development Zone, Beijing, China; and Attachment 7, No. 45 Fang Cao Street, High-tech Zone, Chengdu, China; and Unit 6, Floor 21, Guangdong Asia International Hotel, No. 326, Huanshi East Road, Yuexiu District, Guangzhou, China; and Room 203, Building 10, No. 6251 Shangchuan Road, Pudong New Area, Shanghai, China; and Room 200, No. 97, Zhongshan Road, Heping District, Shenyang, China; and Room 20, 30th Floor, Unit A, Genesis Plaza, No. 549 Jiefang Avenue, Jianghan District, Wuhan, China.
| * * * * * *
| Beijing Transemic Information Technology Ltd., a.k.a. the following one alias: —Beijing Tianshenghua Information Technology Co., Ltd. | For all items subject to the EAR. (See § 744.11 of the EAR). | Presumption of denial | 88 FR [INSERT FR PAGE NUMBER] June 14, 2023.
| Room 433, Section C, 4th Floor, Building 1, 3rd Street, Shangdi Information Industry Base, Haidian District, Beijing, China.
| Beijing Transemic Technology Ltd., a.k.a. the following one alias: —Beijing Tianshenghua Technology Co., Ltd. | For all items subject to the EAR. (See § 744.11 of the EAR). | Presumption of denial | 88 FR [INSERT FR PAGE NUMBER] June 14, 2023.
| Room 2306, Building C, Jinchangan, No. 82, Middle East Fourth Ring Road, Chaoyang District, Beijing, China; and Room 801, Building C11, No. 219, Tianhua 2nd Road, High-tech Zone, Chengdu, China; and 1st Floor, Building 2, No. 136, Tonghuai Street, Jiangning District, Nanjing, China; and Room 5, 2/F, Phase 2, Xinbao Industrial and Commercial Centre, 116 Ma Tau Kok Road, To Kwa Wan, Hong Kong.
| * * * * * *
| Belt Consulting Co., Limited., Unit E&F, 13/F Wang Cheong, Commercial Building, No. 249-253 Reclamation St., Kowloon, Hong Kong. | For all items subject to the EAR. (See § 744.11 of the EAR). | Presumption of denial | 88 FR [INSERT FR PAGE NUMBER] June 14, 2023.
| * * * * * *
| Changzhou Utek Composite Co., Limited, a.k.a., the following one alias: —CUC. | For all items subject to the EAR. (See § 744.11 of the EAR). | See § 744.3(d) of the EAR | 88 FR [INSERT FR PAGE NUMBER] June 14, 2023.
| Fuhanyuan 1-812, New North District, Changzhou, 213022, Jiangsu, China.
| * * * * * *
| Chengdu Poyotencon Technology, No. 175, Shanbanqiao Road, Chenghua District, Chengdu City, Sichuan Province, China. | For all items subject to the EAR (See § 744.11 of the EAR). | Presumption of denial | 88 FR [INSERT FR PAGE NUMBER] June 14, 2023.
| * * * * * *
| China Taly Aviation Technologies Corporation, a.k.a. the following two aliases: —China Taly; and —China Tianli Aviation Technology Industrial Co., Ltd. | For all items subject to the EAR (See § 744.11 of the EAR). | Presumption of denial | 88 FR [INSERT FR PAGE NUMBER] June 14, 2023.
| 7 Da Cheng Road Feng Tai District, Beijing, China; and No. 7 Dacheng Road, Fengtai District, Beijing, China; and No. 56 Zhi Chun Road, Haidian District, Beijing China Haidian District, Beijing, China.
| * * * * * *
| Chinese Flight Test Establishment, a.k.a. the following six aliases: —630 Institute of China Aeronautical Research Institute; —Aviation Industry Test Flight Center; —AVIC Flight Test Center; —CFTE; —China CFTE; and —Yanliang Test Flight Institute. | For all items subject to the EAR (See § 744.11 of the EAR). | Presumption of denial | 88 FR [INSERT FR PAGE NUMBER] June 14, 2023.
| 8th Testing Flying Courtyard Road, Yanliang District, Xi'an City, Shaanxi Province, China; and CFTE Rd Yanliang District, Xi'an, China; and Renmin Road, Yanliang District, Xi'an City, Shaanxi Province, China; and Hong91 Building 357 Unit 39, Xi'an City, China; and No. 8 Shifeiyuan Road, Yanliang District, Xi'an, China.
| * * * * * *
| Enhance International Trade Limited, Room 803 8/F Easey Commercial Building 253-261, Hennessy Road, Wanchai, Hong Kong. | For all items subject to the EAR (See § 744.11 of the EAR). | Presumption of denial | 88 FR [INSERT FR PAGE NUMBER] June 14, 2023.
| * * * * * *
| Frontier Services Group Limited, Suite 3902, 39/F, Far East Finance Center, 16 Harcourt Road, Admiralty, Hong Kong; and 2201, Wing 1 Kunsha Center, 16 Xinyuanli, Chaoyang District, Beijing, China. (See alternate addresses under Kenya, Laos, and United Arab Emirates.) | For all items subject to the EAR (See § 744.11 of the EAR). | Presumption of denial | 88 FR [INSERT FR PAGE NUMBER] June 14, 2023.
| * * * * * *
| General Technology Limited, Level 13, 68 Yee Wo Street, Causeway Bay, Hong Kong. | For all items subject to the EAR. (See § 744.11 of the EAR). | See §§ 744.2(d) and 744.3(d) of this part | 88 FR [INSERT FR PAGE NUMBER] June 14, 2023.
| * * * * * *
| Luoyang Institute of Science and Technology, a.k.a. the following one alias: —Luoyang Institute of Technology. | For all items subject to the EAR. (See § 744.11 of the EAR). | Presumption of denial | 88 FR [INSERT FR PAGE NUMBER] June 14, 2023.
| No. 90, Wangcheng Avenue, Luolong District, Luoyang City, Henan Province, China; and Mudan Blvd., Near Peony Ave, Luoyang, Luolong District, Henan, China 471025; and No. 71 Jiudu W Rd., Jianxi District, Luo Yang Shi, Henan, China, 471000; and No. 8 Xuezi St., Luolong District, 8, Henan, China, 471023.
| * * * * * *
| New Faith Enterprise Investment Limited, 11/F, Catic Plaza, 8 Causeway Road, Causeway Bay, Hong Kong; and Unit E&F, 13/F Wang Cheong, Commercial Building, No. 249-253 Reclamation St., Kowloon, Hong Kong. | For all items subject to the EAR. (See § 744.11 of the EAR). | Presumption of denial | 88 FR [INSERT FR PAGE NUMBER] June 14, 2023.
| * * * * * *
| Opturn Co., Ltd., a.k.a. the following one alias: —Beijing Outang Technology Co., Ltd. | For all items subject to the EAR. (See § 744.11 of the EAR). | Presumption of denial | 88 FR [INSERT FR PAGE NUMBER] June 14, 2023.
| Yingzhi Building, No., 49-3, Suzhoujie Street, Beijing, China; and Room 301, Building 3, Northwest District, Suzhou Nano City, Suzhou Industrial Park, Suzhou, China; and Room 102, Block B, Oriental Hope Building, No. 3 Gaopeng Avenue, High-tech Zone, Chengdu, China.
| * * * * * *
| Pera Global, a.k.a. the following three aliases: —Anshi Asia Pacific; —Anshi Asia-Pacific Technology Co., Ltd.; and —Pera Corporation Ltd. | For all items subject to the EAR. (See § 744.11 of the EAR). | Presumption of denial | 88 FR [INSERT FR PAGE NUMBER] June 14, 2023.
| Building CN08, No. 1, Balizhuang Dongli, Chaoyang District, Beijing, China; and Room 901, Building 5, Jingyao Qiantan, No. 36, Pingjiaqiao Road, Pudong New Area, Shanghai; and Room 313, Neusoft Software Park, No. 1000 Ziyue Road, Minhang District, Shanghai, China; and Room 02, 03, 7th Floor, No. 201, Century Avenue, (Shanghai) Pilot Free Trade Zone, China; and Unit 2602-2607, Building 2, International Finance Center, No. 1, Section 3, Hongxing Road, Jinjiang District, Chengdu, China; and A730, Lidu Plaza, No. 8, Dakejia Lane, Jinjiang District, Chengdu City, Sichuan Province, China; and Unit 01, Building 1, Block 16, Helenbergh Creative Park, No. 329, Yushan West Road, Panyu District, Guangzhou, China; and 18th Floor, Building D1, Science and Technology City, No. 32, Dazhou Road, Yuhuatai District, Nanjing, China; and Room 605, Office Building, Wanda Center, No. 96, Linjiang Avenue, Jiyu Bridge, Wuchang District, Wuhan City, China; and Room 2210, Guomao Building, No. 38 Qingnian Road, Yuzhong District, Chongqing, China; and Room 1508/1509, Block A, Haixing City Plaza, No. 37 Keji Road, Hi-tech Industrial Development Zone, Xi'an City, China; and Room 505, Building B01, International Software Park, Hunnan District, Shenyang City, China; and Room 1301, 13/F, Baofa Commercial Building, 20 Austin Road, Tsim Sha Tsui, Kowloon, Hong Kong.
| * * * * * *
| Qianpu Technology Co., Ltd., a.k.a., the following eleven aliases: —Beijing JDK Electrical Equipment Business Center; —Beijing JingDaKaiYue Electrical Equipment Business Center; —Forward Enterprise; —Forward Enterprises (Hong Kong) Ltd.; —Forward Group Ltd.; —JDK Electrical & Mechanical Equipment Business Center; —Qianpu (Beijing) Technology Co., Ltd.; —Qianpu Enterprise (Hong Kong) Co., Ltd.; —Speedy Enterprise Ltd.; —Speedy Enterprises; and —Step Forward Group Ltd. | For all items subject to the EAR. (See § 744.11 of the EAR). | Presumption of denial | 88 FR [INSERT FR PAGE NUMBER] June 14, 2023.
| 1807, Floor 15, Office Building 2, No. 6 Courtyard, Futong East St., Chaoyang District Beijing, Beijing, 100000 China and Room 1807, Site B, Focus Square International Center, No. 6 Futong East Ave., Chaoyang District, Beijing, China; and Unit 1021, 10th Floor, Ocean Center, Harbor City, 5 Carton Road, TST, Kowloon, Hong Kong; and Room 508, Site D, Xinyuan Xingyuan International Plaza, Chaoyang District, Beijing, China; and Unit D, 10th Floor, China Overseas Building, 139 Hennessy Road, Wanchai Hong Kong; and Room 1705, Site E, Xingyuan International Plaza Chaoyang District, Beijing, China.
| * * * * * *
| Shanghai Aerospace Science and Technology Development Co., Ltd., a.k.a. the following two aliases: —Shanghai Astronautical Science-Technology Development Company; and —Shencom. | For all items subject to the EAR. (See § 744.11 of the EAR). | Presumption of denial | 88 FR [INSERT FR PAGE NUMBER] June 14, 2023.
| Room A-522, No. 188, Yesheng Road, Lingang New Area, (Shanghai) Pilot Free Trade Zone, China.
| * * * * * *
| Shanghai Breeze Technology Co., Ltd., a.k.a., the following one alias: —Shanghai Qingfeng Technology Co., Ltd. | For all items subject to the EAR. (See § 744.11 of the EAR). | Presumption of denial | 88 FR [INSERT FR PAGE NUMBER] June 14, 2023.
| Unit B-04 Huashen Road, Shanghai, China; and Room 1008, Building 6, Lingkong Soho, No. 968 Jinzhong Rd., Changning District, Shanghai, China.
| Shanghai Breeze Technology Jiangsu Co., Ltd., a.k.a., the following one alias: —Shanghai Qingfeng Technology Jiangsu Co., Ltd. | For all items subject to the EAR. (See § 744.11 of the EAR). | Presumption of denial | 88 FR [INSERT FR PAGE NUMBER] June 14, 2023.
| North of Lingxiao Road, Xitong Science and Technology Industrial Park, Tongzhou District, Nantong, Jiangsu, China.
| * * * * * *
| Shanghai Shark Sprite Technology Co., Ltd., Room 1008, Building 6, No. 968, Jinzhong Road, Changning District, Shanghai, China. | For all items subject to the EAR. (See § 744.11 of the EAR). | Presumption of denial | 88 FR [INSERT FR PAGE NUMBER] June 14, 2023.
| Shanghai Supercomputing Technology Co., Ltd., Room 105A36, Main Building, No. 99, Huanhu West Road, Lingang New Area, (Shanghai) Pilot Free Trade Zone, China. | For all items subject to the EAR. (See § 734.9(e) and § 744.11 of the EAR).⁴ | Presumption of denial | 88 FR [INSERT FR PAGE NUMBER] June 14, 2023.
| * * * * * *
| The Test Flying Academy of South Africa, No. 1 Lingyun Road, Yanliang District, Xi'an City, Shaanxi Province, China. (See alternate address under South Africa.) | For all items subject to the EAR (See § 744.11 of the EAR). | Presumption of denial | 88 FR [INSERT FR PAGE NUMBER] June 14, 2023.
| * * * * * *
| Tiger Force Electronics Limited, 4th Floor, Building C Intl Career Parking, 2 Xinxi Road, Shangdi, Beijing, China; and Unit 615, 6/F, 11 Hoi Shing Road, Tsuen Wan, N.T., Hong Kong. | For all items subject to the EAR. (See § 744.11 of the EAR). | See §§ 744.2(d) and 744.3(d) of this part | 88 FR [INSERT FR PAGE NUMBER] June 14, 2023.
| * * * * * *
| United Vision Limited, Unit 417, 4th Floor, Lippo Centre, Tower Two, No. 89 Queensway, Admiralty, Hong Kong. | For all items subject to the EAR. (See § 744.11 of the EAR). | Presumption of denial | 88 FR [INSERT FR PAGE NUMBER] June 14, 2023.
| Universal Enterprise Limited, 88 Tokwawan Road, Kowloon, Hong Kong; and Rm 1102A, 11/F New Lee Wah Center, Kowloon, Hong Kong; and Unit 2222-23 22/F, Siu Lek Yuen, Shatin, Hong Kong; and 4 Wangjing Road, Chaoyang District, Beijing, China. | For all items subject to the EAR. (See § 744.11 of the EAR). | See §§ 744.2(d) and 744.3(d) of this part | 88 FR [INSERT FR PAGE NUMBER] June 14, 2023.
| * * * * * *
| Xinjiang Kehua Hechang Biological Science and Technology Co., Ltd., Room 1110, Block B, Building 1, High-rise Commercial and Residential Building, Qiyi Jiangyuan, No. 396, Huanghe Road, Saybag District, Urumqi, Xinjiang, China. | For all items subject to the EAR. (See § 744.11 of the EAR). | Presumption of denial | 88 FR [INSERT FR PAGE NUMBER AND DATE OF PUBLICATION IN THE FEDERAL REGISTER].
* * * * * * *
KENYA | Frontier Services Group Limited, Allianz Building, 96 Riverside Drive, 6th Floor, P.O. Box 54-00517, Nairobi, Kenya. (See alternate addresses under Laos, and United Arab Emirates.) | For all items subject to the EAR (See § 744.11 of the EAR). | Presumption of denial | 88 FR [INSERT FR PAGE NUMBER] June 14, 2023.
* * * * * * *
LAOS | Frontier Services Group Limited, Asem Villa No.5 Had Don Chan Road, Beyngkhayong Village, Sisattanak District, Vientiane Capital, Laos P.D.R. (See alternate addresses under People's Republic of China, Kenya, and United Arab Emirates.) | For all items subject to the EAR (See § 744.11 of the EAR). | Presumption of denial | 88 FR [INSERT FR PAGE NUMBER] June 14, 2023.
* * * * * * *
MALAYSIA | * * * * * *
| International Aerospace Asia, a.k.a. the following two aliases: —IAA; and —IntAero. | For all items subject to the EAR (See § 744.11 of the EAR). | Presumption of denial | 88 FR [INSERT FR PAGE NUMBER] June 14, 2023.
| Level 44, Tower 2, Kuala Lumpur, Malaysia. (See alternate addresses under Singapore, Thailand and United Kingdom.)
| * * * * * *
PAKISTAN | * * * * * *
| Affiliates International, 9 Timber Pond, Keamari P.O. Box 13139, Karachi, Pakistan. | For all items subject to the EAR. (See § 744.11 of the EAR). | See § 744.3(d) of the EAR | 88 FR [INSERT FR PAGE NUMBER] June 14, 2023.
| * * * * * *
| Akhtar and Sons Private Limited, 10th Floor Emerald Tower, Main Clifton Road, Karachi, Pakistan, 74000. | For all items subject to the EAR. (See § 744.11 of the EAR). | See § 744.3(d) of this part | 88 FR [INSERT FR PAGE NUMBER] June 14, 2023.
| * * * * * *
| Imminent Engineering Co., Ltd., Office No 35, Third Floor, Farhan Arcade, G-11 Markaz, Islamabad, 44000, Pakistan. | For all items subject to the EAR. (See § 744.11 of the EAR). | Presumption of denial | 88 FR [INSERT FR PAGE NUMBER] June 14, 2023.
| * * * * * *
| Quantum Logix (Private) Limited, a.k.a., the following one alias: —Quantum Logix (Pvt) Ltd. | For all items subject to the EAR. (See § 744.11 of the EAR). | Presumption of denial | 88 FR [INSERT FR PAGE NUMBER] June 14, 2023.
| Plot No 22, Sector H-9, Islamabad, 46000, Pakistan.
| * * * * * *
* * * * * * *
SINGAPORE | * * * * * *
| International Aerospace Asia, a.k.a. the following two aliases: —IAA —IntAero | For all items subject to the EAR (See § 744.11 of the EAR). | Presumption of denial | 88 FR [INSERT FR PAGE NUMBER] June 14, 2023.
| 14 Ann Siang Road, Singapore, 069694. (See alternate addresses under Malaysia, Thailand and United Kingdom.)
| * * * * * *
* * * * * * *
SOUTH AFRICA | * * * * * *
| AVIC International Flight Training Academy, 144 St. John St., James King and Badenhorst Office Western Cape, Oudtshoorn, Western Cape, 6620 South Africa; and P.O. Box 1, Oudtshoorn, 6620 South Africa; and AIFA Building, General Aviation Area, George Airport, 6529 George, Western Cape, South Africa; and Karoo Gateway Lodge, N1 Highway, Beaufort West Airport, 6790. | For all items subject to the EAR (See § 744.11 of the EAR). | Presumption of denial | 88 FR [INSERT FR PAGE NUMBER] June 14, 2023.
| * * * * * *
| Pearl Coral 1173 CC, Unit B3 Centurion Business Park, Democracy Way, Western Cape Town, Western Cape, 7441 South Africa. | For all items subject to the EAR (See § 744.11 of the EAR). | Presumption of denial | 88 FR [INSERT FR PAGE NUMBER] June 14, 2023.
| * * * * * *
| The Test Flying Academy of South Africa, Hangar 3, Air Field, Anderson St, Oudtshoorn, 6620, South Africa. (See alternate address under People's Republic of China.) | For all items subject to the EAR (See § 744.11 of the EAR). | Presumption of denial | 88 FR [INSERT FR PAGE NUMBER] June 14, 2023.
| * * * * * *
THAILAND | * * * * * *
| International Aerospace Asia, a.k.a. the following two aliases: —IAA; and —IntAero. | For all items subject to the EAR (See § 744.11 of the EAR). | Presumption of denial | 88 FR [INSERT FR PAGE NUMBER] June 14, 2023.
| 280, Moo 9, Luang Nua, Doi Saket, Chiang Mai 50220 Thailand; and 188 Moo 1, San Klang San Kampheang, Chiang Mai 50130 Thailand. (See alternate addresses under Malaysia, Singapore, and United Kingdom.)
| * * * * * *
UNITED ARAB EMIRATES | * * * * * *
| Frontier Services Group Limited, FLC & FRONTIER SERVICES GROUPL MENA DMCC, Office 2005-2008, Platinum Tower, Cluster I, Jumeirah Lakes Tower, P.O. Box 336826, Dubai, United Arab Emirates. (See alternate addresses under People's Republic of China, Kenya, and Laos.) | For all items subject to the EAR (See § 744.11 of the EAR). | Presumption of denial | 88 FR [INSERT FR PAGE NUMBER] June 14, 2023.
| * * * * * *
| TFASA Group FZCO, Suite 1702, Level 17, Boulevard Plaza Tower 1, Sheikh Mohammed Bin Rashid Boulevard, Dubai, United Arab Emirates. | For all items subject to the EAR (See § 744.11 of the EAR). | Presumption of denial | 88 FR [INSERT FR PAGE NUMBER] June 14, 2023.
| TFASA Group Training, Suite 1702, Level 17, Boulevard Plaza Tower 1, Sheikh Mohammed Bin Rashid Boulevard, Dubai, United Arab Emirates. | For all items subject to the EAR (See § 744.11 of the EAR). | Presumption of denial | 88 FR [INSERT FR PAGE NUMBER] June 14, 2023.
| TFASA Services FZCO, Dubai Silicon Oasis, DDP Building A2, Dubai, United Arab Emirates. | For all items subject to the EAR (See § 744.11 of the EAR). | Presumption of denial | 88 FR [INSERT FR PAGE NUMBER] June 14, 2023.
| TFASA Training Limited, Suite 904-09, Boulevard Plaza Tower 1, Sheikh Mohammed Bin Rashid Boulevard, Downtown Burj Khalifa; and Suite 1702, Level 17, Boulevard Plaza Tower 1, Sheikh Mohammed Bin Rashid Boulevard, Dubai, United Arab Emirates. | For all items subject to the EAR (See § 744.11 of the EAR). | Presumption of denial | 88 FR [INSERT FR PAGE NUMBER] June 14, 2023.
| * * * * * *
* * * * * * *
UNITED KINGDOM | * * * * * *
| International Aerospace Asia, a.k.a. the following two aliases: —IAA; and —IntAero. | For all items subject to the EAR (See § 744.11 of the EAR). | Presumption of denial | 88 FR [INSERT FR PAGE NUMBER] June 14, 2023.
| 10 Cheyne Walk, Northhampton, NN1 5PT, United Kingdom. (See alternate addresses under Malaysia, Singapore, and Thailand.)
| * * * * * *
| TFASA Group Limited, a.k.a. the following one alias: —TFASA Group ICC Limited | For all items subject to the EAR (See § 744.11 of the EAR). | Presumption of denial | 88 FR [INSERT FR PAGE NUMBER] June 14, 2023.
| 2nd Fl, O'Neal Marketing Associates Bldg, Road Town, British Virgin Islands; and P.O. Box 3174, Road Town, British Virgin Islands.
| * * * * * *

* * * * *

Thea D. Rozman Kendler,
Assistant Secretary for Export Administration.

[FR Doc. 2023-12726 Filed 6-12-23; 11:15 am]

BILLING CODE 3510-33-P